NATIONAL SCIENCE FOUNDATION

Proposal Review Panel for Materials Research; Notice of Meeting

In accordance with the Federal Advisory Committee Act (Pub. L. 92-463, as amended), the National Science Foundation (NSF) announces the following meeting:

Name and Committee Code: Site visit review of Platform for the Two-Dimensional Crystal Consortium, a Materials Innovation Platform (2DCC-MIP), at Pennsylvania State University by the NSF Division of Materials Research (DMR) (#1203).

Date and Time: August 4, 2022; 8:30 a.m.-6:00 p.m.; August 5, 2022; 8:30 a.m.-2:30 p.m.

Place: Millennium Science Complex, Pennsylvania State University, Pollock Road, University Park, PA 16802.

Type of Meeting: Part-open.

Contact Person: Charles Ying, Program Director, Division of Materials Research, National Science Foundation, 2415 Eisenhower Avenue, Alexandria, VA 22314; Telephone (703) 292-8428.

Purpose of Meeting: Site visit to provide advice and recommendations concerning further support of the 2DCC-MIP at Pennsylvania State University.

Agenda

Thursday, August 4, 2022

8:30 a.m.-9:00 a.m. Executive Session (Closed)

9:00 a.m.-11:45 a.m. Review of PARADIM MIP

11:45 a.m.-6:00 p.m. Executive Session (Closed)

Friday, August 5, 2022

8:30 a.m.-2:30 p.m. Executive Session (Closed)

Reason for Closing: Topics to be discussed and evaluated during closed portions of the site review will include information of a proprietary or confidential nature, including technical information; and information on personnel. These matters are exempt under 5 U.S.C. 552b(c), (4) and (6) of the Government in the Sunshine Act.

Dated: July 1, 2022.
Crystal Robinson,
Committee Management Officer.

[FR Doc. 2022-14411 Filed 7-6-22; 8:45 am]

BILLING CODE 7555-01-P